DEPARTMENT OF THE INTERIOR

Minerals Management Service

Preparation of a Programmatic Environmental Assessment for Exploration Activities in the Sale Area of the Eastern Planning Area of the Gulf of Mexico Outer Continental Shelf

AGENCY: Minerals Management Service, Interior.

ACTION: Preparation of a Programmatic Environmental Assessment.

SUMMARY: The Minerals Management Service (MMS) is preparing a programmatic environmental assessment (EA) for exploration drilling and associated activities in the sale area of the Eastern Planning Area (EPA) on the Gulf of Mexico outer continental shelf (OCS). The MMS will receive Exploration Plans (EP) from industry operators with valid leases within the 256-block area that was offered in Lease Sale 181 (December 2001), from operators with valid leases acquired prior to Lease Sale 181, or from operators with valid leases that may be issued in any subsequent lease sales held in this area. This programmatic EA is intended to consider the areawide environmental impacts of exploration drilling in this area. Subsequent site-specific EA's prepared by MMS for an operator's EP can then be tiered from the programmatic EA and the analyses can be focused on the specific activities proposed. Three mitigation measures in the form of lease stipulations are included in the leases issued as result of Lease Sale 181.

This programmatic EA implements the tiering process outlined in 40 CFR 1502.20, which encourages agencies to tier environmental documents, eliminating repetitive discussions of the same issue. This programmatic EA will be tiered from the recent final environmental impact statement (EIS) for Gulf of Mexico OCS Oil and Gas Lease Sale 181 (MMS 2001-051) and the EA (MMS 2001-083) prepared for the reduced area proposed for Lease Sale 181.

FOR FURTHER INFORMATION CONTACT: Minerals Management Service, Gulf of Mexico OCS Region, 1201 Elmwood Park Boulevard, New Orleans, Louisiana 70123-2394, Mr. Thomas W. Bjerstedt, telephone (504) 736-5743.

SUPPLEMENTARY INFORMATION: In July 2001, the MMS released the final EIS for proposed Eastern Gulf of Mexico Lease Sale 181. The final EIS evaluated three sale-area configurations and a no action alternative, as well as eleven mitigation measures in the form of lease stipulations. The Revised Proposal for Eastern Gulf of Mexico Lease Sale 181 was not one of the alternatives evaluated in the final EIS because the Revised Proposal was developed after publication of the final EIS. An EA was prepared to evaluate potential impacts within the area of the Revised Proposal and a finding of no new significant impacts was made on September 26, 2001. Only three of the eleven proposed lease stipulations evaluated in the final EIS were applicable to the reduced area for Lease Sale 181.

The issues and resources identified for and addressed in the final EIS (MMS 2001-051) that were applicable to the Revised Proposal were evaluated in the EA (MMS 2001-083). The programmatic EA that is the subject of this Notice is being prepared to evaluate the issues and potential environmental impacts related to exploratory drilling and associated activities in the EPA sale area.

Public Comments

The MMS requests interested parties to submit comments regarding any new information or issues that should be addressed in the programmatic EA to Minerals Management Service, Gulf of Mexico OCS Region, Office of Leasing and Environment, Attention: Regional Supervisor (MS 5410), 1201 Elmwood Park Boulevard, New Orleans, Louisiana 70123-2394. Comments should be submitted no later than 30 days after the publication of this Notice in the Federal Register.

Dated: May 2, 2002.
Chris C. Oynes,
Regional Director, Gulf of Mexico OCS Region.

[FR Doc. 02-13787 Filed 5-31-02; 8:45 am]

BILLING CODE 4310-MR-P